DEPARTMENT OF LABOR

Employment and Training Administration

Investigations Regarding Certifications of Eligibility To Apply for NAFTA Transitional Adjustment Assistance

Petitions for transitional adjustment assistance under the North American Free Trade Agreement-Transitional Adjustment Assistance Implementation Act (Pub. L. 103-182), hereinafter called (NAFTA-TAA), have been filed with State Governors under section 250(b)(1) of Subchapter D, Chapter 2, Title II, of the Trade Act of 1974, as amended, are identified in the Appendix to this Notice. Upon Notice from a Governor that a NAFTA-TAA petition has been received, the Director of the Division of Trade Adjustment Assistance (DTAA), Employment and Training Administration (ETA), Department of Labor (DOL), announces the filing of the petition and takes action pursuant to paragraphs (c) and (e) of section 250 of the Trade Act.

The purpose of the Governor's actions and the Labor Department's investigations are to determine whether the workers separated from employment on or after December 8, 1993 (date of enactment of Pub. L. 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, DC provided such request if filed in writing with the Director of DTAA not later than August 30, 2002.

Also, interested persons are invited to submit written comments regarding the subject matter of the petitions to the Director of DTAA at the address shown not later than August 30, 2002.

Petitions filed with the Governors are available for inspection at the Office of the Director, DTAA, ETA, DOL, Room C-5311, 200 Constitution Avenue, NW., Washington, DC 20210.

Signed at Washington, DC, this 14th day of August, 2002.
Edward A. Tomchick,
Director, Division of Trade Adjustment Assistance.

Appendix
Subject firm | Location | Date received at Governor's office | Petition No. | Articles produced
GL and V USA (Co.) | Nashua, NH | 07/29/2002 | NAFTA-6, 419 | Baffle filters, disk filters, screens.
Seton Company (Co.) | Saxton, PA | 08/02/2002 | NAFTA-6, 420 | Cut-to-pattern leather pieces for autos.
Buck Forkardt Inc. (USWA) | Kalamazoo, MI | 07/31/2002 | NAFTA-6, 421 | Chuck pinions, chuck scrolls, cast.
Matsushita Home Appliance Corp. (Wkrs) | Danville, KY | 08/01/2002 | NAFTA-6, 422 | Vacuum cleaners.
Exxon Mobil Corporation (Wkrs) | Gibsonia, PA | 08/02/2002 | NAFTA-6, 423 | Grease.
Potlatch Corporation (Wkrs) | Warren, AR | 08/02/2002 | NAFTA-6, 424 | Lumber production.
Fort Darborn Company (Wkrs) | Coldwater, MI | 07/31/2002 | NAFTA-6, 425 | Food labels.
Mahoning Mills, Inc. (Wkrs) | Kutztown, PA | 08/02/2002 | NAFTA-6, 426 | Under garments.
Samuel Whittar (USWA) | Detroit, MI | 07/31/2002 | NAFTA-6, 427 | Strip steel fabrication.
Jet Craft Boats of Oregon (Wkrs) | Medford, OR | 08/01/2002 | NAFTA-6, 428 | Aluminum boats.
Valeo Switches and Detection Systems (Co.) | Ft. Worth, TX | 08/02/2002 | NAFTA-6, 429 | Switches and detection systems.
Scranton Lace Company (Wkrs) | Scranton, PA | 08/01/2002 | NAFTA-6, 430 | Tablecloths, curtains, napkins, runners.
Celestica (Co.) | Mt. Pleasant, IA | 08/01/2002 | NAFTA-6, 431 | Two-way FM radios.
Emess Design Group, LLC (AFGWU) | Ellwood City, PA | 07/31/2002 | NAFTA-6, 432 | Lamps, lighting design products.
G and G Sewing Machine Company (Co.) | Dunmore, PA | 07/31/2002 | NAFTA-6, 433 | Sewing equipment, parts, customized unit.
International Data (Wkrs) | El Paso, TX | 07/30/2002 | NAFTA-6, 434 | Data entry/customer service.
A.O. Smith Electrical Products (Co.) | Scottsville, KY | 07/29/2002 | NAFTA-6, 435 | Stator and coil electric motor assemblie.
Buffalo Color Corp. (Wkrs) | Buffalo, NY | 07/30/2002 | NAFTA-6, 436 | Indigo dye for denim.
Ohmits Manufacturing (Wkrs) | Skokie, IL | 07/12/2002 | NAFTA-6, 437 | Electrical resistors.
Corbin Limited (UNITE) | Ashland, KY | 08/05/2002 | NAFTA-6, 438 | Men and women's tailored suits.
Encompass Group, LLC (Co.) | Eastman, GA | 07/31/2002 | NAFTA-6, 439 | Healthcare apparel.
ADC Telecommunications (Wkrs) | Shakopee, MN | 06/11/2002 | NAFTA-6, 440 | Telecommunications equipment.
Helsapenn (UNITE) | Philadelphia, PA | 08/05/2002 | NAFTA-6, 441 | Shoulder pads.

Appendix
Subject firm | Location | Date received at Governor's office | Petition No. | Articles produced
Flextronics Enclosure Systems (Co.) | Elk Grove Village, IL | 08/05/2002 | NAFTA-6, 442 | Sheet metal computer parts.
Tellabs, Inc. (Wkrs) | Burlington, MA | 07/31/2002 | NAFTA-6, 443 | Telecommunications system for metro appl.
Trinity Industries (Wkrs) | Butler, PA | 07/26/2002 | NAFTA-6, 444 | Railroad freight car parts.
Creo (Wkrs) | Bedford, MA | 08/05/2002 | NAFTA-6, 445 | Scanning equipment.
Pabst Meat Supply (Wkrs) | Invergrove Height, MN | 08/05/2002 | NAFTA-6, 446 | Frozen hamburger patties.
ADC Telecommunications (Wkrs) | Shakopee, MN | 08/05/2002 | NAFTA-6, 447 | Telecommunications.
Crown Cork and Seal (IAM) | Portland, OR | 08/05/2002 | NAFTA-6, 448 | Metal can ends.
IMI Cornelius (Wkrs) | Anoka, MN | 07/09/2002 | NAFTA-6, 449 | Beverage dispensers.
ADC Telecommunications (Wkrs) | Eden Prairie, MN | 08/05/2002 | NAFTA-6, 450 | Optical connecting switching equipment.
Celestica Corp. (Co.) | Rochester, MN | 08/12/2002 | NAFTA-6, 451 | Printed circuit assemblies.
National Torch Tip (IUE) | Pittsburgh, PA | 08/12/2002 | NAFTA-6, 452 | Torch tips.
U.S. Manufacturing (Wkrs) | Bad Axe, MI | 08/12/2002 | NAFTA-6, 453 | Manual steering gear.
Peterson Spring (UAW) | Three Rivers, MI | 08/12/2002 | NAFTA-6, 454 | Auto parts.
Pella Plastics (Co.) | So. Pittsburgh, TN | 08/02/2002 | NAFTA-6, 455 | Plastic molded parts.
C.R. Bard (Co.) | Mentor, OH | 08/06/2002 | NAFTA-6, 456 | Medical devices.
Clore Automotive (Co.) | Bloomington, MN | 08/08/2002 | NAFTA-6, 457 | Battery chargers.
Versa Tool (Wkrs) | Meadville, PA | 08/12/2002 | NAFTA-6, 458 | Injection molds.
Competitive Engineering (Co.) | Tucson, AZ | 08/10/2002 | NAFTA-6, 459 | Precisioned machined parts.
Damas, Inc (Wkrs) | Long Island City, NY | 08/01/2002 | NAFTA-6, 460 | Knits garments.
Dimension Tech (Wkrs) | Ironwood, MI | 08/06/2002 | NAFTA-6, 461 | Acture frame moulding.
Dunbrooke Industries (Co.) | El Dorado Spring, MO | 08/06/2002 | NAFTA-6, 462 | Apparel.
Baker Ewter Prize (Wkrs) | Alphena, MI | 08/09/2002 | NAFTA-6, 463 | Blocks.
Saturn Electronics and Engineering (Wkrs) | Auburn Hills, MI | 08/08/2002 | NAFTA-6, 464 | Electronic boards & modules.
Corning (Co.) | Concord, NC | 08/09/2002 | NAFTA-6, 465 | Optical fiber technology.
Welcast Plastics-Harris Welco (Co.) | Barberton, OH | 06/24/2002 | NAFTA-6, 466 | Plastic lens.

[FR Doc. 02-21092 Filed 8-19-02; 8:45 am]

BILLING CODE 4510-30-M